DEPARTMENT OF TRANSPORTATION

Federal Aviation Administration

14 CFR Part 71

[Docket No. FAA-2022-0764; Airspace Docket No. 21-ANM-37]

RIN 2120-AA66

Modification of Class D Airspace and Class E Airspace; Bozeman Yellowstone International Airport, MT; Correction

AGENCY: Federal Aviation Administration (FAA), Department of Transportation (DOT).

ACTION: Final rule; correction.

SUMMARY: The FAA is correcting a final rule that appeared in the Federal Register on November 16, 2022. The Final Rule incorrectly listed the effective date as 0901 UTC, December 29, 2022. This action corrects the effective date to 0901 UTC, February 23, 2023.

DATES: Effective 0901 UTC, February 23, 2023. The Director of the Federal Register approves this incorporation by reference under 1 CFR part 51, subject to the annual revision of FAA Order JO 7400.11, Airspace Designations and Reporting Points, and publication of conforming amendments.

FOR FURTHER INFORMATION CONTACT: Nathan A. Chaffman, Federal Aviation Administration, Western Service Center, Operations Support Group, 2200 S 216th Street, Des Moines, WA 98198; telephone (206) 231-3460.

SUPPLEMENTARY INFORMATION:

History

The FAA published a final rule in the Federal Register (87 FR 68627; November 16, 2022) for Docket FAA-2022-0764, which modified the Class D and E surface areas, the Class E airspace area designated as an extension to a Class D or E surface area, and the Class E airspace extending upward from 700 feet above the surface at Bozeman Yellowstone International Airport, MT. In addition, the action made several administrative amendments to update the airport's legal descriptions. Subsequent to publication, the FAA identified that the effective date listed in the Final Rule was incorrect. The deadline to submit documents for the December 29, 2022 publication date has already expired. The Final Rule effective date should read: “0901 UTC, February 23, 2023”. This action corrects the error.

Class D, Class E2, Class E4, and Class E5 airspace designations are published in paragraphs 5000, 6002, 6004, and 6005, respectively, of FAA Order JO 7400.11G, dated August 19, 2022, and effective September 15, 2022, which is incorporated by reference in 14 CFR 71.1. The Class E airspace designation listed in this document will be published subsequently in FAA Order JO 7400.11.

FAA Order JO 7400.11 is published annually and becomes effective on September 15.

Correction to Final Rule

Accordingly, pursuant to the authority delegated to the FAA, “Modification of Class D Airspace and Class E Airspace; Bozeman Yellowstone International Airport, MT”, published in the Federal Register of November 16, 2022 (87 FR 68627), FR Doc. 2022-24800, is corrected as follows:

§ 71.1 [Corrected]

1. On page 68627, in the first column, DATES is corrected to read:

DATES: Effective 0901 UTC, February 23, 2023. The Director of the Federal Register approves this incorporation by reference action under 1 CFR part 51, subject to the annual revision of FAA Order JO 7400.11 and publication of conforming amendments.

Issued in Des Moines, Washington, on December 7, 2022.
B.G. Chew,
Group Manager, Operations Support Group, Western Service Center.

[FR Doc. 2022-26962 Filed 12-12-22; 8:45 am]

BILLING CODE 4910-13-P